DEPARTMENT OF THE INTERIOR

Office of the Secretary

[Docket No. ONRR-2012-0003; DS63600000 DR2PS0000.PX8000 134D0102R2]

U.S. Extractive Industries Transparency Initiative Multi-Stakeholder Group (USEITI MSG) Advisory Committee

AGENCY: Policy, Management and Budget, Interior.

ACTION: Meetings.

SUMMARY: This notice announces the next three meetings of the United States Extractive Industries Transparency Initiative (USEITI) Multi-Stakeholder Group (MSG) Advisory Committee for September 10, 2013; October 1-2, 2013; and December 11-12, 2013; in Washington, DC.

Dates and Times: The September 10 meeting will occur via teleconference from 2-4 p.m. Eastern Time, and the October 1-2 and December 11-12 meetings will occur in-person from 9:30 a.m. to 5:00 p.m. Eastern Time each day, unless otherwise indicated at www.doi.gov/eiti/faca, where agendas, meeting logistics, and meeting materials will be posted.

ADDRESSES: Members of the public may listen to the September 10, 2013, meeting by dialing into a moderated conference line at 888-843-9213 (Passcode: EITI). The October 1-2 and December 11-12, 2013, meetings will be held in Room 5160 of the Main Interior Building, 1849 C Street NW., Washington, DC, 20240. Members of the public may attend in person, or view documents and presentations under discussion via WebEx at http://bit.ly.ZQ9aQP and listen to the proceedings at telephone number 1-866-707-0640 (passcode: 1500538).

FOR FURTHER INFORMATION CONTACT: Rosita Compton Christian, USEITI Secretariat; 1849 C Street NW., MS-4211, Washington, DC 20240. You may also contact the USEITI Secretariat via email at useiti@ios.doi.gov, by phone at 202-208-0272, or by fax at 202-513-0682.

SUPPLEMENTARY INFORMATION: The U.S. Department of the Interior established the USEITI Advisory Committee (Committee) on July 26, 2012, to serve as the initial USEITI multi-stakeholder group. More information about the Committee, including its charter, can be found at www.doi.gov/eiti/faca.

Meeting Agenda: Agenda items for the September 10 teleconference meeting will include a review of the U.S. draft candidacy application for EITI and any pending matters prior to posting for public comment, and the plan for public and tribal outreach during the public comment period. The agenda for the October 1-2 in-person meeting will include continued review of the U.S. draft candidacy application for EITI, guidance from EITI experts, and a discussion of next steps toward attaining candidacy. The agenda for the December 11-12 in-person meeting will include a review of any updates to the draft candidacy application based on public comment and feedback and a discussion about whether to finalize and when to send the application to the EITI Board for its consideration. The final agendas and materials for the meetings will be posted on the USEITI MSG Web site at www.doi.gov/eiti/faca. All Committee meetings are open to the public.

Whenever possible, we encourage those participating by telephone to gather in conference rooms in order to share teleconference lines. Please plan to dial into the meeting and/or log-in to WebEx at least 10-15 minutes prior to the scheduled start time in order to avoid possible technical difficulties. Individuals with special needs will be accommodated whenever possible. If you require special assistance (such as an interpreter for the hearing impaired), please notify Interior staff in advance of the meeting at 202-208-0272 or via email at useiti@ios.doi.gov. Anyone wishing to provide comments during the public comment period must submit written statements to useiti@doi.gov by September 6, 2013, for the September 10, 2013, meeting; by September 27, 2013, for the October 1-2, 2013, meeting; and December 6, 2013, for the December 11-12, 2013, meeting. In addition, individuals or groups wishing to make comments in person or via the teleconference line may do so during the designated time on the agenda, as time permits.

The minutes from these proceedings will be posted on our internet site at http://www.doi.gov/eiti/faca and will also be available for public inspection and copying at our office in the Main Interior Building in Washington, DC, by contacting Interior staff at useiti@ios.doi.gov or by telephone at 202-208-0272. For more information on USEITI, visit http://www.doi.gov/eiti.

Dated: August 14, 2013.
Rhea Suh,
Assistant Secretary—Policy, Management and Budget, Department of the Interior.

[FR Doc. 2013-20180 Filed 8-16-13; 8:45 am]

BILLING CODE 4310-T2-P